DEPARTMENT OF EDUCATION

National Assessment Governing Board; Meeting

AGENCY: National Assessment Governing Board; Education.

ACTION: Notice of open meeting and partially closed meetings.

SUMMARY: This notice sets forth the schedule and proposed agenda of a forthcoming meeting of the National Assessment Governing Board. This notice also describes the functions of the Board. Notice of this meeting is required under section 10(a)(2) of the Federal Advisory Committee Act. This document is intended to notify the general public of their opportunity to attend. Individuals who will need accommodations for a disability in order to attend the meeting (i.e. interpreting services, assistive listening devices, materials in alternative format) should notify Munira Mwalimu at 202-357-6938 or at Munira.Mwalimu@ed.gov no later than May 3, 2002. We will attempt to meet requests after this date, but cannot guarantee availability of the requested accommodation. The meeting site is accessible to individuals with disabilities.

DATES: May 16-May 18, 2002.

Times: May 16: Executive Committee Meeting: Open Session 4:30 p.m.-6:30 p.m.; Closed Session 6:30 p.m. to 7 p.m.

May 17: Full Board Meeting: Open Session 8:30 a.m.-10:30 a.m.; Committee Meetings: Assessment Development Committee 10:30 a.m.-12:30 p.m.; Committee on Standards, Design and Methodology, 10:30 a.m.-12:30 p.m.; Reporting and Dissemination Committee, 10:30 a.m.-12:30 p.m.; Full Board—Closed Meeting 12:30 p.m.-1:30 p.m.; Open Meeting 1:30 p.m.-2:45 p.m.; Closed Meeting, 3 p.m.-4:30 p.m.

May 18: Nominations Committee: Closed Meeting—8 a.m.-8:45 a.m.; Full Board Open Meeting, 9 a.m.-11:40 a.m.; Closed Meeting 11:40 a.m.-12 p.m.

Location: The Westin Embassy Row, 2100 Massachusetts Avenue, NW., Washington, DC 20008.

FOR FURTHER INFORMATION CONTACT: Munira Mwalimu, Operations Office, National Assessment Governing Board, 800 North Capitol Street, NW., Suite 825, Washington, DC, 20002-4233, Telephone: (202) 357-6938.

SUPPLEMENTARY INFORMATION: The National Assessment Governing Board is established under section 412 of the National Education Statistics Act of 1994 (Title IV of the Improving America's Schools Act of 1994, as amended by the No Child Left Behind Act of 2002) (Public Law 103-382).

The Board is established to formulate policy guidelines for the National Assessment of Education Progress (NAEP). The Board's responsibilities include selecting subject areas to be assessed, developing assessment objectives, developing appropriate student achievement levels for each grade and subject tested, developing guidelines for reporting and disseminating results, and developing standards and procedures for interstate and national comparisons.

On May 17, 2002 the full Board will convene in open session from 8:30 a.m.-10:30 a.m. The Board will approve the agenda; receive the Executive Director's report and a NAEP Update from the Deputy Commissioner of NCES, Gary Phillips. The Board will then preview proposed policies on the NAEP program. From 10:30 a.m. to 12:30 p.m., the Board's standing committees—the Assessment Development Committee, the Committee on Standards, Design, and Methodology, and the Reporting and Dissemination Committee will meet in open session.

The full Board will reconvene in closed session on May 17, 2002 from 12:30 p.m.-1:30 p.m. to receive results of the NAEP 2001 Geography Assessment. This meeting must be closed because the Commissioner of Education has not officially released results of the NAEP Geography Assessment to the public and premature disclosure of the information presented for review would be likely to significantly frustrate implementation of a proposed agency action if conducted in open session. Such matters are protected by exemption 9(B) of section 552b(c) of Title 5 U.S.C.

The full Board will reconvene in open session on May 17, from 1:30 p.m. to 2:45 p.m. to receive an update on the NAEP Economics Framework and to receive a report on NAEP/NAGB reauthorization. From 3 p.m. to 4:30 p.m. the full Board will meet in closed session from 3 p.m. to 4:30 p.m. to review and discuss test items from the main NAEP Science Assessment. Disclosure of the specific test items for a test that has not yet been administered would significantly frustrate implementation of the NAEP program, and is therefore protected by exemption 9(B) of section 552b(c) of Title 5 U.S.C.

On May 18, 2002, the Nominations Committee will meet in closed session from 8 a.m. to 8:45 a.m. to review nominations received for vacant positions on the Board. On May 18, 2002 the full Board will meet in open session from 9 a.m. to 11:40 a.m. to receive recommendations and take action on the NAEP Reading Framework Revisit. The Board will then hear and take action on Committee reports from 9:45 a.m. to 11:40 a.m. Subsequently, from 11:40 a.m. to 12 noon, the full Board will meet in closed session to review nominations for Board vacancies. This discussion pertains solely to internal personnel rules and practices of an agency and will disclose information of a personal nature where disclosure would constitute an unwarranted invasion of personal privacy. As such, the discussions are protected by exemptions (2) and (6) of section 552b(c) of Title 5 U.S.C. The May 18, 2002 Board meeting will adjourn at 12 noon.

Summaries of the activities of the closed sessions and related matters, which are informative to the public and consistent with the policy of section 5 U.S.C. 552b(c), will be available to the public within 14 days of the meeting. Records are kept of all Board proceedings and are available for public inspection at the U.S. Department of Education, National Assessment Governing Board, Suite #825, 800 North Capitol Street, NW., Washington, DC, from 9 a.m. to 5 p.m. Eastern Standard Time.

Dated: March 26, 2002.
Roy Truby,
Executive Director, National Assessment Governing Board.

[FR Doc. 02-10688 Filed 4-30-02; 8:45 am]

BILLING CODE 4000-01-M